DEPARTMENT OF THE INTERIOR

National Park Service

Homestead National Monument of America

AGENCY: National Park Service, Interior.

ACTION: Record of Decision, General Management Plan and Environmental Impact Statement, Homestead National Monument of America, Nebraska.

SUMMARY: Pursuant to section 102(2)(c) of the National Environmental Policy Act of 1969, as amended, and the regulations promulgated by the Council on Environmental Quality (40 CFR 1505.2), the Department of the Interior, National Park Service, has prepared a Record of Decision on the Final General Management Plan and Final Environmental Impact Statement for the Homestead National Monument of America in Gage County, Nebraska.

DATES: The Acting Regional Director, Midwest Region approved the Record of Decision, on December 22, 1999.

FOR FURTHER INFORMATION CONTACT: Superintendent, Homestead National Monument of America, 8523 W. State Highway 4, Beatrice, Nebraska 68310-6743, telephone 402-223-3514.

SUPPLEMENTARY INFORMATION:

Introduction

The National Park Service has prepared the Final General Management Plan/Abbreviated Final Environmental Impact Statement (FGMP/AFEIS) for Homestead National Monument of America, Nebraska. The FGMP/AFEIS proposes management direction for the park for the next 10-20 years and documents the anticipated effects of the selected action and other alternatives on the human environment, including natural and cultural resources. This Record of Decision is a concise statement of the decisions made, other alternatives considered, the basis for the decision, the environmentally preferable alternative, and the mitigating measures developed to avoid or minimize environmental harm.

Decision

After careful consideration of environmental impacts, costs, and comments from the public, agencies, and technical evaluations, the National Park Service recommends for implementation the selected action evaluated in the Final General Management Plan/Environmental Impact Statement.

Summary of the Selected Action

The goal of the selected alternative, which was identified as Alternative C, Option 1 in the Final Environmental Impact Statement, is to significantly change the physical arrangement of facilities and operational functions of the monument. The alternative represents a comprehensive alteration to the monument's current operational form and to visitor orientation in order to fulfill the legislative requirements of the monument. With this selected action, the key monument facilities will be relocated to a location outside of the existing 100-year frequency flood hazard zone. A minor boundary expansion will be pursued to acquire land outside existing boundaries that would be necessary for the facilities. Management zones will provide guidance for managing specific areas for desired visitor experience and resource conditions (see p. 32 of the FGMP).

The selected action calls for the creation of a new ‘‘Homestead Heritage Center’’ to house the monument's collections, interpretive exhibits, theatre, public research facilities, and administrative offices. This new ‘‘Homestead Heritage Center’’ will be located on the eastern side of the monument.

The ‘‘Homestead Heritage Center’’ will require a separate research facility within the building to act as a repository for the monument's homestead records and other items of homesteading literature, as required by the monument's enabling legislation. In addition, the center will have a parking lot designed to accommodate 50 cars and 10 buses or campers.

The selected action also calls for the existing visitor center/museum to be modified and adaptively reused as an ‘‘Education Center’’. This center will serve as a location where students of all ages could engage in learning more about the homestead story. A ‘‘School of Traditional Homesteading Folk Arts’’ program will be established to give the public an opportunity to learn old homesteading folk crafts. In addition to a range of educational activities that will take place in this center, special events and interpretive programs will also be conducted here. Distance learning technology will also connect the center to schools near and far. The areas to the back of the present facility will be used to house maintenance functions. The remaining offices will be used by visiting instructors or modified to serve as classrooms. The exhibits presently in use will be removed and that area converted to classrooms. The existing parking lot appears to be suitable to meet the foreseeable needs of this facility.

In addition, the management prescriptions contained within the selected action will seek to promote the establishment of a ‘‘Homestead Heritage Parkway’’. This parkway concept is proposed to form an interpretive linkage between the monument, including the Freeman School, and the surrounding rural countryside and communities to highlight today's visible and tangible results of implementation of the Homestead Act. The principal interpretive and educational theme of the parkway will be agriculture. With comparisons made to modern farm operations. These stories will be communicated through the use of signs and traveler information radio broadcasts.

The creation of this parkway as one of the monument's interpretive tools will depend on voluntary partnerships with the local governments and landowners along the identified highway segment. It is important to note that the NPS is not recommending a formal federal designation for this parkway. The concept of the ‘‘Homestead Heritage Parkway’’ presumes the rerouting of a segment of State Highway 4 outside the monument's boundary. After this realignment has occurred, the abandoned segment of State Highway 4 will become an access road for the monument and for local residents. Existing truck and commuter traffic will be rerouted on a comparable replacement segment of State Highway 4 nearby. The ‘‘Homestead Heritage Parkway’’ will begin where the access road (the abandoned segment of State Highway 4) enters the eastern boundary of the monument and extend to the Freeman School. The NPS envisions the eventual and voluntary extension of the ‘‘Homestead Heritage Parkway’’ concept from the Freeman School west along the access road to where it rejoins State Highway 4. The NPS also endorses the parkway's extension to the east from the monument to the City of Beatrice (meeting at the junction of State Highways 136 and 4 in West Beatrice), however the NPS is not recommending any change to the currently designated speed limit for that segment. It is possible that a public biking and/or hiking path could be connected to the monument.

Other Alternatives Considered

Alternative A is the no-action, or status quo, alternative. This alternative would have restricted the monument in achieving its mission; however, it does provide a baseline for comparison of the other alternatives. This alternative called for the continuation of current levels and patterns of National Park Service stewardship and management with regard to natural, historic, and cultural resources at the monument.

Each of the following action alternatives were designed to achieve all desired futures for the monument, including those related to natural, historic, and cultural resources enhancement and protection, and visitor experiences. The principle difference between alternatives is the location of the primary monument facilities.

Alternative B prescribed certain alterations to the existing pattern of facilities, stewardship, and management. The monument's natural, historic, and cultural resources would have remained generally as they are now. The existing monument facilities would have remained in their present locations but would have been flood-proofed to withstand a 100-year flood event.

Like the selected action Alternative C, Option 1, Alternative C, Option 2 proposed significant changes to the physical arrangement and operational functions of the monument. This alternative also represented comprehensive alterations to the homestead resources. The alternative also would have fulfilled the legislative requirements of the monument. Alternative C, Option 2 would have significantly changed the location of key monument facilities to a location outside the existing 100-year frequency flood hazard zone but within the existing monument boundary. It also proposed the creation of a new ‘‘Homestead Heritage Center’’ to house the monument's collections, interpretive displays, public research facilities, and administrative offices. The existing visitor center would have been adaptively reused as an ‘‘Education Center’’ for special events, programs, and educational opportunities. In addition, it proposed to form a linkage between the monument and the surrounding countryside and communities through the establishment of an approximately six mile ‘‘Homestead Heritage Parkway’’ which would highlight today's visible results of implementation of the Homestead Act.

Environmentally Preferable Alternative

The environmentally preferable alternative is defined as ‘‘the alternative or alternatives that will promote the national environmental policy as expressed in section 101 of the National Environmental Policy Act. Ordinarily, this means the alternative that causes least damage to the biological and physical environment; it also means the alternative that best protects, preserves, and enhances historic, cultural, and natural resources’’ (‘‘Forty Most Asked Questions Concerning Council on Environmental Quality's (CEQ) National Environmental Policy Act Regulations,’’ 1981).

The environmentally preferable alternative is the selected action, Alternative C, Option 1. This alternative best meets the full range of national environmental policy goals as stated in NEPA's section 101. The selected action (1) maximizes protection of natural and cultural resources while maintaining a wide range of neutral and beneficial uses of the environment without degradation; (2) maintains an environment that supports diversity and variety of individual choice; (3) achieves a balance between human population and resource use; and (4) improves resource sustainability.

The selected action removes the monument's threatened existing visitor center complex, with its associated resources, exhibits, and operational facilities, from its location within the 100-year floodplain of nearby Cub Creek. The removal of these resources and functions to a different yet nearby location also minimizes existing safety and resource concerns associated with the state highway crossing the monument. In addition, the selected action best minimizes impacts to and developmental incursions into the monument's natural resources (principally, its reconstructed tallgrass prairie) and minimizes impacts to and developmental incursions into the monument's cultural resources in the form of its historic original 1862 homestead tract. It also maximizes public and visitor safety by prescribing the relocation of a segment of the existing state highway to an alignment outside monument boundaries. This action will significantly reduce the volume and mix of traffic on State Highway 4, will improve the qualities of visitor safety and experience, and will result in a reduced physical intrusion into the monument's boundary.

Measures To Minimize Harm

All practicable measures to avoid or minimize environmental impacts that could result from implementation of the selected action have been identified and incorporated into the selected action. They are presented in detail in the FGMP/AFEIS. However, due to the programmatic nature of the general management plan, specific implementation projects will be reviewed as necessary for compliance with the National Environmental Policy Act, National Historic Preservation Act, and other applicable federal and state laws and regulations prior to project clearance and implementation. Specific measures to minimize environmental harm also will be included in implementation plans called for by the FGMP/AFEIS. These plans include, but are not limited to, resource management plans, land protection plans, historic structure reports, and schematic design documents.

Basis for Decision

The selected alternative best supports the park's purpose and significance, and accomplishes the statutory mission of the National Park Service to provide long-term protection of park resources while allowing for appropriate levels of visitor use and means of visitor enjoyment. The selected alternative also does the best job of addressing issues identified during public scoping while minimizing environmental harm. Other factors considered in the decision were public and resource benefits gained for the cost incurred and extensive public comment.

Public Involvement

The NPS has taken a comprehensive approach to public involvement during the development of this GMP. To date, the NPS has issued two newsletters for the general public and conducted a series of public meetings. The NPS has consulted with state and local government officials, including the State Historic Preservation Office. American Indian groups with affiliations to the monument have received the newsletters and a copy of the draft plan for comment.

Newsletter No. 1 was mailed in December 1997. Newsletter No. 2 was distributed in March 1998. Nearly 600 newsletters were in each mailing. The series of public meetings were conducted in January 1998. Two meetings were held in Beatrice, Nebraska, near the monument and one in Lincoln, Nebraska, 40 miles away. Over 20 people attended the three meetings. In April 1998, an “open house,” was held at the Monument. Twenty-five individuals, park neighbors, government officials, and community members attended this “open house”. All public meetings received coverage by local and regional media sources. Monument neighbors have been involved throughout the process.

The GMP planning team contacted the Pawnee Tribe of Oklahoma in an attempt to identify tribal concerns relative to this GMP/EIS. In addition, comments were sought through extensive mailings of newsletters and media coverage. No response was received from the tribe. Because of the Pawnee's long-standing cultural affiliation with this area of Nebraska, the NPS will continue to keep the tribe informed of important stages of this planning process and of plans to implement the preferred alternative throughout the GMP planning process.

Over 600 news letters announcing the Draft General Management Plan and Environmental Impact Statement for Homestead National Monument of America were mailed May 4, 1999. More than 200 copies of the full draft document were distributed to agencies, organizations and individuals. The document was also made available to the general public at the Beatrice Public Library and at Homestead National Monument of America. The National Park Service conducted two public meetings in May 1999, one meeting was held at the Beatrice Public Library May 25 while the second meeting was held at the Charles H. Gere Library in Lincoln, Nebraska May 26. An additional public open house was held June 29, 1999 at Homestead National Monument of America to discuss the Draft General Management Plan/Environmental Impact Statement.

The Beatrice public meeting had 43 people in attendance; 14 people attended the Lincoln public meeting. One person attended the meeting held in June, at Homestead National Monument of America.

A 60-day review period (May 4, 1999 through July 10, 1999) was designated for receiving comments on the draft plan and EIS. Fifteen written comments were received. At the end of the review period, the comments were reviewed and substantive comments were identified. The Final General Management Plan (FGMP) and an Abbreviated Final Environmental Impact Statement (AFEIS) were made available to the public on November 21, 1999. The 30-day no action period required by NEPA regulations commenced on that date. Approximately 39 copies of the FGMP/AFEIS were distributed to agencies, local governments, organizations, persons who commented on the draft GMP, and others who requested the document. The FGMP/AFEIS contains a complete summary of the public involvement process and substantive comments received.

Conclusion

A notice of availability for the FGMP/AFEIS was published by the Environmental Protection Agency in the Federal Register on November 6, 1998. The 30-day no-action period ended on December 20, 1999. No public comments were received during the no action period.

The above factors and considerations justify the selection of the final plan, as described as Alternative C, Option 1, in the Final Environmental Impact Statement. The Final General Management Plan is hereby approved.

Dated: December 22, 1999.
Catherine A. Damon,
Acting Regional Director.

[FR Doc. 00-999 Filed 1-14-00; 8:45 am]

BILLING CODE 4310-70-P